DEPARTMENT OF JUSTICE

[OMB 1140-0091]

Agency Information Collection Activities; Proposed eCollection eComments Requested; Revision of a Previously Approved Collection; Title—National Response Team Customer Satisfaction Survey

AGENCY: Bureau of Alcohol, Tobacco, Firearms, and Explosives; Department of Justice

ACTION: 60-Day notice.

SUMMARY: The Department of Justice (DOJ), Bureau of Alcohol, Tobacco, Firearms, and Explosives (ATF), will be submitting the following information collection request (ICR) to the Office of Management and Budget (OMB) for review and approval in accordance with the Paperwork Reduction Act of 1995.

DATES: ATF encourages comments on this information collection. You may submit written comments until midnight on January 27, 2026.

ADDRESSES: Submit written comments and recommendations for this information collection to Jennifer George, Analyst, Fire Investigation and Arson Enforcement Division Program, by email to jennifer.george@atf.gov, or by mail to Corporal Road, Building 3750; Redstone Arsenal; Huntsville, AL 35898. Identify comments by the OMB control number 1140-0091 You may view the proposed information collection instrument online at https://www.atf.gov/rules-and-regulations/federal-register-actions/forms-and-information-collection.

FOR FURTHER INFORMATION CONTACT: If you have additional comments, especially on the estimated public burden or associated response time, suggestions, or need a copy of the proposed information collection instrument with instructions or additional information, contact: Jennifer George, NCETR, either by mail at Corporal Road, Building 3750; Redstone Arsenal; Huntsville, AL 35898, by email at jennifer.george@atf.gov, or by telephone at 256-261-7614.

SUPPLEMENTARY INFORMATION: We encourage written comments and suggestions from the public and affected agencies concerning the proposed information collection. Your comments should address one or more of the following four points:

—Evaluate whether the proposed information collection is necessary to properly perform ATF's functions, including whether the information will have practical utility;

—Evaluate the agency's estimate of the proposed information collection's burden for accuracy, including validity of the methodology and assumptions used;

—Evaluate whether, and if so, how, the quality, utility, and clarity of the collected information can be enhanced; and

—Minimize the information collection's burden on those who are to respond, including using appropriate automated, electronic, mechanical, or other technological collection techniques or other forms of information technology, e.g., permitting people to submit electronic responses.

Abstract: ATF requests feedback on NRT's effectiveness, performance, strengths, weaknesses, etc., from organizations that request the NRT's investigative and crime scene services in responding to arson and explosives events. The information is used for internal audits that support the NRT's national-level forensics accreditation.

Overview of This Information Collection

1. Type of information collection: revision of a previously approved collection.

2. The title of the form/collection: National Response Team Customer Satisfaction Survey.

3. The agency form number, if any, and the applicable component of the Department sponsoring the collection: Form number: none.

Component: Bureau of Alcohol, Tobacco, Firearms, and Explosives, U.S. Department of Justice.

4. Affected public who will be asked or required to respond, as well as the obligation to respond: state, local and tribal governments. The obligation to respond is voluntary.

5. An estimate of the total number of respondents and the amount of time estimated for an average respondent to respond: An estimated 18 respondents will provide information to complete this survey once annually, and it will take each respondent approximately 0.25 hours to complete their responses.

6. An estimate of the total annual burden (in hours) associated with the collection: The estimated annual public burden associated with this collection is 5 total hours, which is equal to 18 (total respondents) * 1 (# of responses per respondent) * 0.25 (15 minutes).

7. An estimate of the total annual cost burden associated with the collection, if applicable: $0.

Estimated Annualized Respondent Cost and Hour Burden
[Rounded]
Activity | Number of respondents | Frequency | Total annual responses | Time per response (hours) | Total annual burden (hours)
Completing SurveyMonkey survey | 18 | 1 | 18 | 0.25 | 5
Unduplicated totals | 18 |  | 18 | 0.25 | 5

Revisions to This Information Collection

ATF is revising this ICR, OMB control number 1140-0091, to reflect a change from surveys by mail through emailed surveys to now online surveys. In addition, ATF has streamlined the invitation process. As a result of these changes, the time burden for individual respondents has decreased from .5 hours to .25 hours. In addition, the number of arson and explosives crime scene events was lower during the past three years, resulting in a decrease in the annual number of respondents, from 32 in 2022 to 18, a decrease of 14 respondents. These combined changes have resulted in a corresponding decrease in total hourly burden from 16 to five, a decrease of 11 hours. In addition, ATF has added a monetized value for the time burden, due to new OMB request, which has not been in previous ICRs.

If additional information is required, contact: Darwin Arceo, Department Clearance Officer; United States Department of Justice; Justice Management Division, Enterprise Portfolio Management; Two Constitution Square, 145 N Street NE, 4W-218; Washington, DC.

Dated: November 24, 2025.
Darwin Arceo,
Department Clearance Officer for PRA, U.S. Department of Justice.

[FR Doc. 2025-21339 Filed 11-26-25; 8:45 am]

BILLING CODE 4410-CW-P